DEPARTMENT OF COMMERCE

National Oceanic and Atmospheric Administration

[I.D. 081803C]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator), has made a preliminary determination that the subject EFP application contains all the required information and warrants further consideration. The Assistant Regional Administrator has also made a preliminary determination that the activities authorized under the EFP would be consistent with the goals and objectives of the Northeast Multispecies Fishery Management Plan (FMP). However, further review and consultation may be necessary before a final determination is made to issue the EFP. Therefore, NMFS announces that the Assistant Regional Administrator proposes to recommend that an EFP be issued that would allow one vessel to conduct fishing operations that are otherwise restricted by the regulations governing the fisheries of the Northeastern United States. The EFP would allow for exemption from the Georges Bank cod landing limit for one commercial vessel, for not more than 26 days-at-sea (DAS). The experiment would test the effectiveness of two cod-avoiding flatfish trawl designs for reducing bycatch of cod (Gadus morhua) and sub-legal size yellowtail flounder (Limanda ferruginea) while maintaining catch rates of legal-sized yellowtail flounder.

Regulations under the Magnuson-Stevens Fishery Conservation and Management Act require publication of this notification to provide interested parties the opportunity to comment on applications for proposed EFPs.

DATES: Comments on this document must be received on or before September 10, 2003.

ADDRESSES: Written comments should be sent to Patricia A. Kurkul, Regional Administrator, NMFS, Northeast Regional Office, 1 Blackburn Drive, Gloucester, MA 01930. Mark the outside of the envelope “Comments on Massachusetts DMF Cod-Avoiding Trawl Net EFP Proposal.” Comments may also be sent via facsimile (fax) to (978) 281-9135.

FOR FURTHER INFORMATION CONTACT: Susan Chinn, Fishery Management Specialist, phone 978-281-9218.

SUPPLEMENTARY INFORMATION: The Massachusetts Division of Marine Fisheries (DMF) submitted an application for an EFP on June 9, 2003, to implement a Salstonstall-Kennedy grant, with a final, revised submission on July 30, 2003. DMF proposes to conduct 100 tows for each design with a twin trawl net, in which the test net is rigged alongside a standard net, for 200 total tows, and limited to 200 hours of bottom-time. The experimental fishing would take place between September 1, 2003, and March 1, 2004, on Georges Bank in 30-minute squares 62-63, 79-80, 92-99, 109-114, 118-119, excluding year-round Closed Areas I and II. DMF requests exemption from the trip limit for haddock, specified at 50 CFR 648.86(a)(1), and the Georges Bank cod landing limit, specified at 50 CFR 648.86(b)(2), and requests retention of legal-sized fish for sale, with the vessel receiving the revenues as compensation for using its DAS. The participating vessel would be required to comply with applicable state landing laws and Federal commercial DAS requirements, and to report all landings on the Federal Fishing Vessel Trip Report.

Authority: 16 U.S.C. 1801 et seq.

Dated: August 19, 2003.
Bruce C. Morehead,
Acting Director, Office of Sustainable Fisheries, National Marine Fisheries Service.

[FR Doc. 03-21723 Filed 8-25-03; 8:45 am]

BILLING CODE 3510-22-S